GENERAL SERVICES ADMINISTRATION

[Notice—WWICC-2014-01; Docket No. 2014-0003; Sequence 1]

World War One Centennial Commission; Notification of Upcoming Public Advisory Meeting

AGENCY: World War One Centennial Commission, GSA.

ACTION: Meeting notice.

SUMMARY: Notice of this meeting is being provided according to the requirements of the Federal Advisory Committee Act, 5 U.S.C. App. 10(a)(2). This notice provides the schedule and agenda for the February 7, 2014, meeting of the World War One Centennial Commission (the Commission). The meeting is a working administrative meeting and is closed to the public.

DATES: Meeting date: The meeting will be held on Friday, February 7, 2013 starting at 9:30 a.m. Eastern Standard Time (EST), and ending no later than 5:30 p.m. The meeting will address administrative issues and will not be open to the public.

FOR FURTHER INFORMATION CONTACT: Daniel S. Dayton, Designated Federal Officer, c/o The Foundation for the Commemoration of the World Wars, 701 Pennsylvania Avenue NW., #123, Washington, DC 20004-2608, 202-380-0725 (note: this is not a toll-free number).

Written Comments may be submitted to the Commission and will be made part of the permanent record of the Commission. Comments must be received by 5:00 p.m. Eastern Standard Time (EST), February 3, 2014 and may be provided by email to daniel.dayton@dhs.gov.

SUPPLEMENTARY INFORMATION:

Background

The World War One Centennial Commission was established by Public Law 112-272, as a commission to ensure a suitable observance of the centennial of World War I, to provide for the designation of memorials to the service of members of the United States Armed Forces in World War I, and for other purposes. Under this authority, the Committee will plan, develop, and execute programs, projects, and activities to commemorate the centennial of World War I, encourage private organizations and State and local governments to organize and participate in activities commemorating the centennial of World War I, facilitate and coordinate activities throughout the United States relating to the centennial of World War I, serve as a clearinghouse for the collection and dissemination of information about events and plans for the centennial of World War I, and develop recommendations for Congress and the President for commemorating the centennial of World War I.

Agenda: Friday, February 7, 2014:

• Introductions and plans for today's meeting—DFO

• Committee Reports

• Old Business

• New Business

• Closing comments

Meeting Location: The Committee will convene its meeting at: The Embassy of Canada, 501 Pennsylvania Avenue NW., Washington, DC 20001.

Dated: January 9, 2014.
Daniel S. Dayton,
Designated Federal Official, World War I Centennial Commission.

[FR Doc. 2014-00532 Filed 1-13-14; 8:45 am]

BILLING CODE 6820-95-P